DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2011, there were five applications approved. This notice also includes information on one application, approved in October 2011, inadvertently left off the October 2011 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County of Clinton, Plattsburgh, New York.

Application Number: 12-07-C-00-PBG.

Application Type: Impose and use a PFC.

PFC Level: $4.50.

Total PFC Revenue Approved in This Decision: $56,170,454.

Earliest Charge Effective Date: December 1, 2012.

Estimated Charge Expiration Date: February 1, 2043.

Class of Air Carriers Not Required to Collect PFC's:Nonscheduled/on-demand air carriers filing FAA Form 1800-31.

Determination: Approved. Based on information contained in the public agency's application, the FAA has determined that the approved class accounts for less than 1 percent of the total annual enplanements at Plattsburgh International Airport.

Brief Description of Projects Approved for Collection and Use:

Passenger terminal building expansion

PFC administrative costs

Decision Date: October 27, 2011.

For Further Information Contact: Andrew Brooks, New York Airports District Office, (516) 227-3816.

Public Agency: City of Lynchburg, Virginia.

Application Number: 12-06-C-00-LYH.

Application Type: Impose and use a PFC.

PFC Level: $4.50.

Total PFC Revenue Approved in This Decision: $3,046,338.

Earliest Charge Effective Date: December 1, 2012.

Estimated Charge Expiration Date: September 1, 2022.

Class of Air Carriers Not Required to Collect PEG's:Air taxi/commercial operators filing FAA Form 1800-31.

Determination: Approved. Based on information contained in the public agency's application, the FAA has determined that the approved class accounts for less than 1 percent of the total annual enplanements at Lynchburg Regional Airport.

Brief Description of Projects Approved for Collection and Use:

Reimbursement of PFC development and administrative costs

Rehabilitate runway 3/21

General aviation terminal building, auto parking

Rehabilitate taxiway B and corporate taxilane

Rehabilitate runway 4/22 drainage—phase 2

Runway 4/22 extension, environmental assessment

Runway 4/22 design—phase 3

Extend runway 4/22, construction

Runway 4/22 extension, phase 5

Master plan update

Decision Date: November 1, 2011.

For Further Information Contact: Jeffery Breeden, Washington Airports District Office, (703) 661-1363.

Public Agency: Cities of Pullman, Washington and Moscow, Idaho.

Application Number: 12-08-C-00-PUW.

Application Type: Impose and use a PFC.

PFC Level: $4.50.

Total PFC Revenue Approved in This Decision: $170,350.

Earliest Charge Effective Date: November 1, 2012.

Estimated Charge Expiration Date: February 1, 2014.

Class of Air Carriers Not Required to Collect PFC's:Non-scheduled air taxi/commercial operators filing FAA Form 1800-31 and utilizing aircraft having a seating capacity of less than 20 passengers.

Determination: Approved. Based on information contained in the public agency's application, the FAA has determined that the approved class accounts for less than 1 percent of the total annual enplanements at Pullman-Moscow Regional Airport.

Brief Description of Projects Approved for Collection and Use:

Americans with Disabilities Act ramp/terminal access

Environmental assessment for new runway

Wildlife hazard assessment and management plan

Interactive computer training system

Service road rehabilitation

General aviation west ramp rehabilitation

PFC administration

Decision Date: November 9, 2011.

For Further Information Contact: Trang Tran, Seattle Airports District Office, (425) 227-1662.

Public Agency: County of Natrona Board of Trustees, Casper, Wyoming.

Application Number: 12-07-C-00-CPR.

Application Type: Impose and use a PFC.

PFC Level: $3.00.

Total PFC Revenue Approved in This Decision: $443,082.

Earliest Charge Effective Date: August 1, 2014.

Estimated Charge Expiration Date: June 1, 2016.

Class of Air Carriers Not Required to Collect PFC's:None.

Brief Description of Projects Approved for Collection and Use:

Rehabilitate taxiway A—phase I

Rehabilitate taxiway A—phase II

Master plan update and snow removal requirements analysis

Acquire snow plow and spreader

Decision Date: November 17, 2011.

For Further Information Contact: Jesse Lyman, Denver Airports District Office, (303) 342-1262.

Public Agency: City of Cody, Wyoming.

Application Number: 11-07-C-00-COD.

Application Type: Impose and use a PFC.

PFC Level: $4.50.

Total PFC Revenue Approved in This Decision: $284,100.

Earliest Charge Effective Date: January 1, 2013.

Estimated Charge Expiration Date: June 1, 2016.

Class of Air Carriers Not Required to Collect PFC's:On demand, non-scheduled air taxi/commercial operators.

Determination: Approved. Based on information contained in the public agency's application, the FAA has determined that the approved class accounts for less than 1 percent of the total annual enplanements at Yellowstone Regional Airport.

Brief Description of Projects Approved for Collection and Use:

Security enhancement 1

Security enhancement 2

Pickup mounted snow plow blade

Service road rehabilitation

Acquire aircraft rescue and firefighting fire suits

Replace aircraft rescue and firefighting equipment

Airport layout plan update and narrative boundary survey

PFC consulting fees

Expand aircraft rescue and firefighting building

Acquire snow removal equipment

Acquire interactive training system

Acquire snow removal equipment vehicle attachment

Brief Description of Withdrawn Project:Two-inch overlay, taxiway A.

Date of Withdrawal: September 7, 2011.

Decision Date: November 17, 2011.

For Further Information Contact: Jesse Lyman, Denver Airports District Office, (303) 342-1262.

Public Agency: County of Knox, Rockland, Maine.

Application Number: 12-01-C-00-RKD.

Application Type: Impose and use a PFC.

PFC Level: $4.50.

Total PFC Revenue Approved in This Decision: $167,250.

Earliest Charge Effective Date: January 1, 2012.

Estimated Charge Expiration Date: July 1, 2016.

Classes of Air Carriers Not Required to Collect PFC's:(1) Non-scheduled/on-demand air carriers; (2) Passengers enplaned on a flight to an airport in a community that has a population of less than 10,000 and is not connected by a land highway or vehicular way to the land-connected National Highway System within a State.

Determination: Approved. Based on information contained in the public agency's application, the FAA has determined that each approved class accounts for less than 1 percent of the total annual enplanements at Know County Regional Airport.

Brief Description of Projects Approved for Collection and Use:

Snow removal equipment acquisition

Airport pavement rehabilitation

Master plan update

Brief Description of Projects Approved For Collection:

Design and permitting for runway 13/31

Easement acquisition

Obstruction removal

Perimeter fencing

Runway 13/31 reconstruction

Rehabilitate terminal aircraft apron

Decision Date: November 22, 2011.

For Further Information Contact: Priscilla Scott, New England Region Airports Division, (781) 238-7614.

Amendment to PFC Approvals
Amendment No. city, state | Amendment approved date | Original approved net PFC revenue | Amended approved net PFC revenue | Original estimated charge exp. date. | Amended estimated charge exp. date
07-01-C-01-SIT, Sitka, AK | 10/28/11 | $1,100,000 | $1,375,000 | 06/01/12 | 7/01/14
08-05-C-01-RAP Rapid Sity, SD | 10/31/11 | 729,192 | 1,048,782 | 06/01/09 | 10/01/09
99-01-C-04-ANC, Anchorage, AK | 11/04/11 | 22,000,000 | 21,043,173 | 01/01/06 | 01/01/06
06-17-C-01-ORD, Chicago, IL | 11/08/11 | 73,198,000 | 78,404,650 | 08/01/16 | 07/01/16
10-08-C-01-GCC, Gillette, WY | 11/10/11 | 426,381 | 813,164 | 05/01/15 | 11/01/14
07-06-C-01-GCC, Gillette, WY | 11/14/11 | 167,238 | 91,395 | 02/01/11 | 11/01/10
09-04-C-01-ROW, Roswell, NM | 11/15/11 | 510,594 | 627,519 | 12/01/13 | 11/01/13
10-03-C-01-DAL, Dallas, TX | 11/15/11 | 345,323,728 | 383,636,108 | 03/01/22 | 04/01/26
08-01-C-01-IFP, Bullhead City, AZ | 11/16/11 | 744,600 | 904,132 | 07/01/12 | 10/01/12
08-17-C-03-BDL, Windsor Locks, CT | 11/16/11 | 11,707,591 | 12,135,277 | 07/01/21 | 07/01/21
09-06-C-01-HTS, Huntington, WV | 11/17/11 | 1,122,712 | 1,208,420 | 09/01/13 | 06/01/12
08-05-C-01-SAN, San Diego, CA | 11/23/11 | 26,301,763 | 19,031,690 | 12/01/09 | 12/01/09

Issued in Washington, DC, on December 5, 2011.
Joe Hebert,
Manager, Financial Analysis and Passenger Facility Charge Branch.

[FR Doc. 2011-31986 Filed 12-13-11; 8:45 am]

BILLING CODE 4910-13-M